DEPARTMENT OF ENERGY

Federal Energy Regulatory Commission

[Docket No. CP18-506-000]

Portland Natural Gas Transmission System; Notice of Schedule for Environmental Review of the Portland Xpress Project

On June 18, 2018, Portland Natural Gas Transmission System filed an application in Docket No. CP18-506-000 requesting a Certificate of Public Convenience and Necessity pursuant to Section 7(c) of the Natural Gas Act to construct and operate certain natural gas pipeline facilities in Cumberland and York Counties, Maine and Middlesex County, Massachusetts. The proposed project is known as the Portland Xpress Project (Project), and it would provide transportation of natural gas to New England and Atlantic Canada markets by supplying 214,375 million cubic feet per day (Mcf/d) of natural gas to New England on wholly-owned PNGTS facilities and 22,339 Mcf/d on the PNGTS and Maritimes jointly-owned facilities.

On June 28, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 27, 2018.

90-day Federal—Authorization Decision Deadline February 25, 2019.

If a schedule change becomes necessary, additional notice will be provided so that the relevant agencies are kept informed of the Project's progress.

Project Description

The Project would require modifications at the existing Westbrook Compressor Station in Cumberland County, Maine; the addition of one new 6,300 horsepower gas-fired compression unit at the Eliot Compressor Station in York County, Maine; and installation of miscellaneous facilities at the Dracut Meter and Regulator Station in Middlesex County, Massachusetts.

Background

On July 12, 2018, the Commission issued a Notice of Intent to Prepare an Environmental Assessment for the Proposed Portland Xpress Project and Request for Comments on Environmental Issues (NOI). The NOI was sent to affected landowners within 0.5 mile of the existing facilities; federal, state, and local government agencies; elected officials; environmental and public interest groups; Native American tribes; other interested parties; and local libraries and newspapers. In response to the NOI, the Commission received comments regarding vegetated areas of concern at the Eliot Compressor Station and well water testing.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-506), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 18, 2018.
Kimberly D. Bose,
Secretary.

[FR Doc. 2018-20678 Filed 9-21-18; 8:45 am]

BILLING CODE 6717-01-P